DEPARTMENT OF HEALTH AND HUMAN SERVICES

National Institutes of Health

National Heart, Lung, and Blood Institute; Cancellation of Meeting

Notice is hereby given of the cancellation of the National Heart, Lung, and Blood Institute Special Emphasis Panel, April 23, 2025, 1:00 p.m. to April 23, 2025, 5:00 p.m., National Institutes of Health, Rockledge I, 6705 Rockledge Drive, Bethesda, MD, 20892 which was published in the Federal Register on March 20, 2025, 90 FR 13179.

National Gene Vector Biorepository contract review meeting is being cancelled due to solicitation not being funded.

Dated: April 15, 2025.
Bruce A. George,
Program Analyst, Office of Federal Advisory Committee Policy.

[FR Doc. 2025-06694 Filed 4-17-25; 8:45 am]

BILLING CODE 4140-01-P